DEPARTMENT OF COMMERCE

National Telecommunications and Information Administration

[Docket No. 020515123-2123-01]

RIN 0660-XX15

Notice, Public Safety Communications Interoperability Summit

AGENCY: National Telecommunications and Information Administration, Department of Commerce.

ACTION: Notice of public meeting.

SUMMARY: The National Telecommunications and Information Administration (NTIA) and the Public Safety Wireless Network (PSWN) Program will co-host a two-day summit on Current and Emerging Solutions to Public Safety Communications Interoperability, on June 11-12, 2002. The summit will be open to the public. The purpose of the interoperability summit is to educate the public about current and emerging technologies that will help to address wireless communications interoperability challenges faced by public safety land mobile radio communications systems.

DATES: The Interoperability Summit will be held from 7 a.m-4 p.m. on Tuesday, June 11, 2002, and from 7 a.m.-3:30 p.m on Wednesday, June 12, 2002.

ADDRESSES: The meetings will take place at the Ronald Reagan International Trade Center, 1300 Pennsylvania Avenue, NW, Washington, DC. Meetings on both days are open to the public. Seating is limited and is available on a first-come, first-served basis. For updated information, a copy of the agenda and audio webcasting information, please refer to NTIA's webpage at <http://www.ntia.doc.gov> or PSWN's webpage at <http://www.pswn.gov>. Directions to the Ronald Reagan International Trade Center and meeting room locations can also be accessed through the Trade Center's webpage at <http://www.itcdc.com>.

FOR FURTHER INFORMATION CONTACT: Derrick Owens, Office of Spectrum Management, NTIA, telephone (202) 482-1920, or electronic mail: <dowens@ntia.doc.gov>; or Richard Orsulak, Public Safety Program, NTIA, telephone (202) 501-5487, or electronic mail: <rorsulak@ntia.doc.gov>. Media inquiries should be directed to the Office of Public Affairs, NTIA, at (202) 482-7002.

SUPPLEMENTARY INFORMATION: NTIA serves as the principal adviser to the President on telecommunications policies as they pertain to the Nation's technological and economic advancement. NTIA is the primary Executive Branch agency responsible for developing and articulating domestic and international telecommunications policies. NTIA also manages use of the radio frequency spectrum by all federal agencies. PSWN is a jointly sponsored initiative which is comprised of the Department of Justice and Department of the Treasury to specifically addresses public safety wireless communications interoperability. Federal, State and local government agencies are working to improve their ability to share information and to use current and emerging technology to ensure that they are better prepared for emergency response, regardless of the type of incident. Furthermore, government leaders are being challenged to better understand their current security and emergency response capabilities and, to implement services and technologies to improve emergency response, ensuring citizen safety during a time of increased national threat.

The Interoperability Summit will provide the platform for attendees to share information addressing current and emerging technology solutions, implementation, lessons learned, and current funding activities. The information will focus on technical solutions, but will be presented in an easy to understand format for attendees. Manufacturers of land mobile radio equipment and commercial providers of other wireless communications technologies will also have an opportunity to brief attendees of their interoperability products, the status of their research and development activities, and compliance with published standards. A Federal Business Opportunities Notice will be published and vendors will be accepted on a first-come, first-served basis. Vendors desiring to send a representative to participate in the presentations and/or the tabletop exhibits should review the Federal Business Opportunities Notice or make their request via electronic mail (preferred), by fax, or in writing to: Mrs. Carole Kirsch, PSWN Program, P.O. Box 3926, Fairfax, VA 22038, (electronic mail: <cakirsch@earthlink.net>, telephone: (703) 279-2006, facsimile: (703) 279-2032).

The audio of the Interoperability Summit will be webcast over the Internet and made available from NTIA's webpage (<http://www.ntia.doc.gov>) during the two-day event.

Public Participation

These meetings will be open to the public and will be physically accessible to people with disabilities. Any member of the public wishing to attend and requiring special services, such as sign language interpretation or other ancillary aids, should contact Derrick Owens or Richard Orsulak at least three (3) days prior to the meeting via the contact information provided above. All persons entering the Ronald Reagan International Trade Center must go through the security screening, therefore, please have photo identification available and/or a U.S. Government building pass, if applicable.

Dated: May 20, 2002.
Kathy D. Smith,
Chief Counsel, National Telecommunications and Information Administration.

[FR Doc. 02-12937 Filed 5-22-02; 8:45 am]

BILLING CODE 3510-60-P